DEPARTMENT OF COMMERCE

National Oceanic and Atmospheric Administration

[I.D. 051001B]

Endangered Species; Permits

AGENCY: National Marine Fisheries Service (NMFS), National Oceanic and Atmospheric Administration (NOAA), Commerce.

ACTION: Receipt of an application for a scientific research permit (1316); Issuance of permits 1298 and 1266.

SUMMARY: Notice is hereby given of the following actions regarding permits for takes of endangered and threatened species for the purposes of scientific research and/or enhancement under the Endangered Species Act (ESA): NMFS has received an application for a scientific research permit from Dr. Jeff Schmid, of The Conservancy of Southwest Florida; NMFS has issued permit 1298 to Ms. Melissa Salmon, of Riverbanks Zoological Park and permit 1266 to John Glass, of REMSA, Inc.

DATES: Comments or requests for a public hearing on any of the new applications or modification requests must be received at the appropriate address or fax number no later than 5 p.m. eastern standard time on June 20, 2001.

ADDRESSES: Written comments on any of the new applications or modification requests should be sent to the appropriate office as indicated below. Comments may also be sent via fax to the number indicated for the application or modification request. Comments will not be accepted if submitted via e-mail or the Internet. The applications and related documents are available for review in the indicated office, by appointment:

Endangered Species Division, F/PR3, 1315 East West Highway, Silver Spring, MD 20910 (phone:301-713-1401, fax: 301-713-0376).

FOR FURTHER INFORMATION CONTACT: Terri Jordan, Silver Spring, MD (phone: 301-713-1401, fax: 301-713-0376, e-mail: Terri.Jordan@noaa.gov)

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Scientific research and/or enhancement permits are issued under Section 10(a)(1)(A) of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species are covered in this notice:

Sea turtles

Threatened and endangered Green turtle (Chelonia mydas)

Endangered Kemp's ridley turtle (Lepidochelys kempii)

Endangered Leatherback turtle (Dermochelys coriacea)

Threatened Loggerhead turtle (Caretta caretta)

Fish

Endangered Shortnose Sturgeon (Acipenser brevirostrum)

New Applications Received

Application 1316

The applicant proposes to characterize the essential habitat associations of subadult Kemp's ridley turtles in the nearshore waters of the upper Ten Thousand Islands. The objectives are: (1) to monitor the movements of Kemp’s ridley turtles via radio and sonic telemetry and to quantify their habitat utilization from the geographical position data, (2) to produce a geographic information system (GIS) database of benthic habitats and subsequently map the habitat types within the study area, and (3) to test for habitat preferences of Kemp’s ridley turtles in this region by comparing the amount of time a turtle spends in a given habitat relative to the availability of all other habitat types.

Permits and Modified Permits Issued

Permit #1298

Notice was published on March 5, 2001 (66 FR 13305), that Ms. Melissa Salmon, of Riverbanks Zoological Park applied for a enhancement permit (1298). The applicant has requested a 5-year permit to continue to maintain eleven adult shortnose sturgeon received from the South Carolina Department of Natural Resources in 1996 for education purposes. NMFS believes that captive maintenance of endangered shortnose sturgeon for enhancement purposes is to the benefit of the species as a whole. The source for the captive display are shortnose sturgeon maintained in hatchery settings that have been deemed non-releasable by NMFS. Because these cultured sturgeon have been deemed non-releasable at this time by NMFS, alternatives to sacrifice were needed. The recovery team for shortnose sturgeon felt that these cultured fish provided an excellent opportunity to educate the public and increase awareness of the species and its plight. These fish are used in research activities and, as recommended by the recovery team, in enhancement activities such as public education. Permit 1298 was issued on May 4, 2001, authorizing take of listed species. Permit 1298 expires May 31, 2006.

Permit #1266

Notice was published on October 19, 2000 (65 FR 62709), that John Glass, of REMSA, Inc. applied for a research/enhancement permit (1266). The applicant requested a 5-year permit to take leatherback, green, loggerhead, Kemp's ridley and green turtles from the Atlantic Ocean and Gulf of Mexico in conjunction with US Army Corps of Engineer Dredging projects for scientific research and enhancement purposes. Permit 1266 was issued on May 8, 2001, authorizing take of listed species. Permit 1266 expires April 30, 2006.

Dated: May 15, 2001.
Phil Williams,
Acting Chief, Endangered Species Division, Office of Protected Resources, National Marine Fisheries Service.

[FR Doc. 01-12747 Filed 5-18-01; 8:45 am]

BILLING CODE 3510-22-S